DEPARTMENT OF LABOR

Employment and Training Administration

[TA-W-70,981]

Amphenol Printed Circuits, Inc., a Subsidiary of Amphenol Corporation, Including On-Site Leased Workers From Technical Needs, MicoTech, and CoWorx, Nashua, NH; Amended Certification Regarding Eligibility To Apply for Worker Adjustment Assistance

In accordance with Section 223 of the Trade Act of 1974, as amended (“Act”), 19 U.S.C. 2273, the Department of Labor issued a Certification of Eligibility to apply for Worker Adjustment Assistance on March 5, 2010, applicable to workers at Amphenol Printed Circuits, Inc., a subsidiary of Amphenol Corporation, Nashua, New Hampshire. The notice was published in the Federal Register April 23, 2010 (75 FR 21362).

At the request of the State Agency, the Department reviewed the certification for workers of the subject firm. The workers are engaged in activities related to the production of rigid commercial products.

The company reports that workers leased from Technical Needs, MicoTech, and CoWorx were employed on-site at the Nashua, New Hampshire, location of Amphenol Printed Circuits, Inc., a subsidiary of Amphenol Corporation. The Department has determined that these workers were sufficiently under the control of the subject firm to be considered leased workers.

Based on these findings, the Department is amending this certification to include workers leased from Technical Needs, MicoTech, and CoWorx working on site at the Nashua, New Hampshire, location of Amphenol Printed Circuits, Inc., a subsidiary of Amphenol Corporation.

The amended notice applicable to the TA-W-70,981 is hereby issued as follows:

All workers of Amphenol Printed Circuits, Inc., a subsidiary of Amphenol Corporation, including on-site leased workers from Technical Needs, MicoTech, and CoWorx, Nashua, New Hampshire, who became totally or partially separated from employment on or after June 1, 2008, through March 5, 2012, and all workers in the group threatened with total or partial separation from employment on the date of certification through two years from the date of certification, are eligible to apply for adjustment assistance under Chapter 2 of Title II of the Trade Act of 1974, as amended.

Signed in Washington, DC, this 12th day of May 2010.
Del Min Amy Chen,
Certifying Officer, Division of Trade Adjustment Assistance.

[FR Doc. 2010-12288 Filed 5-20-10; 8:45 am]

BILLING CODE 4510-FN-P